DEPARTMENT OF ENERGY

Environmental Management Site-Specific Advisory Board, Northern New Mexico

AGENCY: Department of Energy.

ACTION: Notice of Open Meeting.

SUMMARY: This notice announces a meeting of the Environmental Management Site-Specific Advisory Board (EM SSAB), Northern New Mexico. The Federal Advisory Committee Act (Pub. L. No. 92-463, 86 Stat. 770) requires that public notice of this meeting be announced in the Federal Register.

DATES: Wednesday, July 30, 2008, 2 p.m.-8 p.m.

LOCATION: Jemez Complex, Santa Fe Community College, 6401 Richards Avenue, Santa Fe, New Mexico.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE in the areas of environmental restoration, waste management, and related activities.

Tentative Agenda

2 p.m. Call to Order by Deputy Designated Federal Officer (DDFO), Christina Houston; Establishment of a Quorum, Lorelei Novak; Welcome, Ed Moreno; Approval of Agenda, J.D. Campbell; Approval of Minutes of May 22, 2008, Board Meeting, J.D. Campbell.

2:05 p.m. Old Business, Ed Moreno:

A. Questions/Answers on Written Reports from Board Chair, DDFO and Executive Director;

B. Other Matters.

2:20 p.m. New Business, Ed Moreno:

A. First Reading—Proposed Amendments to NNMCAB Bylaws, Menice Santistevan;

B. Report from Nominating Committee;

C. Report/Questions on Environmental Justice Conference, Mike Loya;

D. Matters from the Board Members.

3 p.m. Committee Business/Reports, Ed Moreno:

A. Environmental Monitoring, Surveillance and Remediation Committee, Pam Henline:

• Introduction of Draft Recommendations;

B. Waste Management Committee, Ralph Phelps:

• Introduction of Draft Recommendations;

C. Report from Ad Hoc Committees, Ralph Phelps:

• NNMCAB Effectiveness and DOE Responsiveness, Larry Rapagnani;

• Rapid Response, Jane Gaziano;

• Public Outreach, Antonio Lopez.

4:10 p.m. Break.

4:30 p.m. Discussion with Secretary Ron Curry, New Mexico Environment Department, Ed Moreno; Presentation on Upcoming Consent Order Deliverables.

5:30 p.m. Public Comment Period.

5:45 p.m. Dinner Break.

6:45 p.m. Consideration and Action on Recommendations to DOE (2008-1 to 2008-4), Ed Moreno.

7:45 p.m. Recap of Meeting: Issuance of Press Releases, Editorials, etc., Ed Moreno.

8 p.m. Adjourn, Christina Houston.

This agenda is subject to change at least one day in advance of the meeting.

Public Participation: The meeting is open to the public. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Menice Santistevan at the address or phone number listed above. Minutes and other Board documents are on the Internet at: http://www.nnmcab.org/minutes/board-minutes.htm.

Issued at Washington, DC on June 23, 2008.
Rachel Samuel,
Deputy Committee Management Officer.

[FR Doc. E8-14771 Filed 6-27-08; 8:45 am]

BILLING CODE 6450-01-P